DEPARTMENT OF JUSTICE

Office of Justice Programs

Agency Information Collection Activities: Proposed Collection; Comments Requested

Action: 60-day emergency notice of information collection under review: reinstatement, with change, of a previously approved collection for which approval has expired, report of public safety officer's death.

The U.S. Department of Justice, Office of Justice Programs, Bureau of Justice Assistance has submitted the following information collection request to the Office of Management and Budget (OMB) for review and clearance in accordance with emergency review procedures of the Paperwork Reduction Act of 1995. OMB approval has been requested by October 30, 2003. The proposed information collection is published to obtain comments from the public and affected agencies. If granted, the emergency approval is only valid for 180 days. Comments should be directed to OMB, Office of Information and Regulation Affairs, Attention: Department of Justice Desk Officer (202) 395-5806, Washington, DC 20503. Comments are encouraged and will be accepted for 60 days until December 22, 2003.

During the first 60 days of this same review period, a regular review of this information collection is also being undertaken. All comments, suggestions, or questions, or questions regarding additional information, including requests for copies of the proposed information collection instrument with instructions, should be directed to Sharon Williams at SharonW@ojp.usdoj.gov or via facsimile at (202) 307-0036.

Written comments and suggestions from the public and affected agencies concerning the proposed collection of information are encouraged. Comments should address one or more of the following four points:

(1) Evaluate whether the proposed collection of information is necessary for the proper performance of the functions of the agency, including whether the information will have practical utility

(2) Evaluate the accuracy of the agency's estimate of the burden of the proposed collection of information, including the validity of the methodology and assumptions used

(3) Enhance the quality, utility, and clarity of the information to be collected

(4) Minimize the burden of the collection of information on those who are to respond, including through the use of appropriate automated, electronic, mechanical, or other technological collection techniques or other forms of information technology (e.g., permitting electronic submission of responses)

Overview of this information:

(1) Type of information collection: Reinstatement, with Change, of a Previously Approved Collection for which Approval has Expired.

(2) The title of the form/collection: Report of Public Safety Officer's Death.

(3) The agency form number, if any, and the applicable component of the department sponsoring the collection: From Number: None. Bureau of Justice Assistance, Office of Justice Programs, Department of Justice.

(4) Affected public who will be asked or required to respond, as well as brief abstract: Primary: State, Local, or Tribal Government. Other: Federal Government. This information collection is required to carry out the functions of the PSOB Program. The program provides a one-time benefit of $250,000 (adjusted for cost-of-living) to the eligible survivors of local, state, and federal public safety officers whose deaths result from injuries sustained in the line of duty. The Report of Public Safety Officer's Death form is completed by the employing agency. Supporting documentation is filed with the Bureau of Justice Assistance to assist in determining eligibility of spouses, children, and/or parents of deceased public safety officers in obtaining benefits. The form includes information necessary to determine that the circumstances of death meet the requirements prescribed in 42 U.S.C. 3796.

(5) An estimate of the total number of respondents and the amount of time estimated for an average respondent to respond/reply: It is estimated that each of the 320 respondents will complete the application in approximately 2.5 hours.

(6) An estimate of the total public burden (in hours) associated with the collection: The estimate total public burden associated with this application is 800 hours.

If additional information is required contact: Brenda E. Dyer, Deputy Clearance Officer, Planning and Policy Staff, Justice Management Division, U.S. Department of Justice, Patrick Henry Building, 601 D Street, NW, Suite 1600, Washington, DC 20530.

Dated: October 16, 2003.
Brenda E. Dyer,
Deputy Clearance Officer, Department of Justice.

[FR Doc. 03-26691 Filed 10-22-03; 8:45 am]

BILLING CODE 4410-18-M